DEPARTMENT OF LABOR

Occupational Safety and Health Administration

Advisory Committee on Construction Safety and Health; Notice of Meeting

AGENCY: Occupational Safety and Health Administration (OSHA).

ACTION: Notice of a meeting of the Advisory Committee on Construction Safety and Health (ACCSH).

SUMMARY: ACCSH will meet June 23-24, 2005 in Washington, DC. This meeting is open to the public.

Time and Date: ACCSH will meet from 8:30 a.m. to 4:30 p.m., Thursday, June 23, 2005 and from 8:30 a.m. to Noon, Friday, June 24, 2005.

Place: ACCSH will meet at Room N-3437 A-C in the Frances Perkins Building, U.S. Department of Labor, 200 Constitution Avenue, NW., Washington, DC 20210.

FOR FURTHER INFORMATION CONTACT: For general information about ACCSH and ACCSH meetings: Michael Buchet, OSHA, Directorate of Construction, Room N-3468, U.S. Department of Labor, 200 Constitution Avenue, NW., Washington, DC 20210; telephone 202-693-2020. For information about submission of comments, requests to speak, and for special accommodations for the meeting: Veneta Chatmon, OSHA, Office of Communications, Room N-3647, U.S. Department of Labor, 200 Constitution Avenue, NW., Washington, DC 20210; telephone 202-693-1999.

SUPPLEMENTARY INFORMATION: ACCSH will meet June 23-24, 2005, in Washington, DC.

The agenda for this meeting includes:

• Remarks—Office of the Assistant Secretary—OSHA

• Trenching Data and Initiative

• Safety Standards Update (Cranes and Derricks, and Confined Spaces in construction)

• National Occupational Research Agenda Update—NIOSH

• Consideration of the draft direct final rule for roll over protective structures in construction

• Health Standards Update (Crystalline Silica, Hexavalent Chromium, and Hearing Conservation in construction)

• Work Group Assignments and Reports

• Partnership, Alliance, Challenge, and Voluntary Protection Program for Construction Update

• Office of Training and Education Update

• North Carolina Tower Erection Standard Report

• Steel Erection—Slipperiness of Metal Decking and Vanishing Oils Discussion

• Public Comment (During this period, any member of the public is welcome to address ACCSH about construction-related safety and health issues. See information below to request time to speak.)

All ACCSH meetings, as well as those of its work groups, are open to the public. For access to the official record of the ACCSH meeting, go to OSHA's Web page at http://www.osha.gov. The record is also available for inspection and copying at the OSHA Docket Office, Room N-2625, at the address above, telephone (202) 693-2350 (OSHA's TTY number is (877) 899-5627). OSHA Docket Office and Department of Labor hours are 8:15 a.m. to 4:45 p.m. e.t. Electronic copies of this Federal Register notice, as well as information about ACCSH work groups and other relevant documents, are available at OSHA's Web page.

Interested parties may request to make an oral presentation to ACCSH by notifying Ms. Chatmon before the meeting at the address above. The request must state the amount of time desired, the interest represented by the presenter (e.g., the name of the business or organization), if any, and a brief outline of the presentation. Alternately, at the meeting interested parties may request to address ACCSH by signing the public comment request sheet. Requests to speak may be granted at the ACCSH Chair's discretion and as time permits.

Interested parties may submit written data, views, or comments, preferably with 20 copies, to Ms. Chatmon, at the address above or at the ACCSH meeting. OSHA will provide submissions to ACCSH members and will include each submission in the official record of the meeting.

Individuals needing special accommodations for the ACCSH meeting should contact Ms. Chatmon by June 9, 2005.

ACCSH Work Groups

The following ACCSH work groups will meet June 21-22, 2005, in Room N-3437A-C of the Frances Perkins Building at the address above.

Tuesday, June 21, 2005:

8:30-10:30 a.m.—Silica work group.

10:45 a.m.-12:45 p.m.—Trenching work group.

2-4 p.m.—Noise work group.

Wednesday, June 22, 2005:

8:30-10:30 a.m.—Fall Protection work group.

10:45 a.m.-12:45 p.m.—Roll-Over Protective Structures work group.

2-4 p.m.—OTI (OSHA Training Institute) work group.

ACCSH work group meetings are open to the public. For further information on ACCSH work group meetings or on participating on them, please contact Michael Buchet at the address above or look on the ACCSH page on OSHA's Web page.

Authority: Jonathan L. Snare, Acting Assistant Secretary of Labor for Occupational Safety and Health, directed the preparation of this notice under the authority granted by section 7 of the Occupational Safety and Health Act of 1970 (29 U.S.C. 656), section 3704 of the Contract Work Hours and Safety Standards Act (Construction Safety Act) (40 U.S.C. 3701 et seq.), and Secretary of Labor's Order No. 5-2002 (67 FR 65008).

Signed at Washington, DC this 24th day of May 2005.
Jonathan L. Snare,
Acting Assistant Secretary of Labor.

[FR Doc. 05-10938 Filed 6-1-05; 8:45 am]

BILLING CODE 4510-26-P